DEPARTMENT OF JUSTICE

Notice of Lodging of Proposed Consent Decree Under the Clean Water Act

On April 13, 2015, the Department of Justice lodged a proposed consent decree with the United States District Court for the Southern District of Mississippi in the lawsuit entitled United States and State of Mississippi, by and through the Mississippi Commission on Environmental Quality v. Cal-Maine Foods, Inc., Civil Action No. 3:15-cv-00278-HTW-LRA.

The lawsuit was filed against Cal-Maine Foods, Inc. (“Cal-Maine”) on April, 13, 2015 pursuant to Clean Water Act (“CWA”) Sections 309(b) and (d), 33 U.S.C. 1319(b) and (d), and the Mississippi Air and Water Pollution Control Law, Miss. Code Ann. Sec. 49-17-1 through 49-17-43, seeking penalties and injunctive relief under Sections 301 and 402 of the CWA, 33 U.S.C. 1311 and 1342, and under Miss. Code Ann. Secs. 49-17-29(2) and 49-17-43(1) for unauthorized discharges of pollutants into waters of the United States and the State of Mississippi, and noncompliance with National Pollutant Discharge Elimination System (“NPDES”) permit conditions, including failure to conduct quarterly storm water monitoring, failure to timely submit annual discharge monitoring reports, violation of buffer setback requirements for application of wastewater to fields, application of manure, litter and/or process wastewater during prohibited periods, application of manure, litter and/or process wastewater in exceedance of the rates set for nitrogen, and failure to maintain land application records.

The proposed consent decree contains injunctive relief, including (a) compliance with land application standard operating procedures, including (i) maintaining a 35 foot wide vegetated buffer, (ii) applying all nutrients in accordance with specified application rates, (iii) monitoring land application equipment during application, and (iv) creating and maintaining land application records at the facility; (b) compliance with production area standard operating procedures, including (i) inspecting each production area, (ii) documenting the results of such inspections, (iii) taking any necessary corrective measures, including actions necessary to eliminate discharges of pollutants to waters of the United States and/or the state, (iv) creating and maintaining production area inspection and corrective action records, and (v) reporting any discharges of pollutants from the production areas to waters of the United States and/or state; and (c) implementation and compliance with the employee training policy. Cal-Maine has also agreed to pay a penalty of $475,000, of which $237,500 will be paid to the United States and $237,500 will be paid to the Mississippi Department of Environmental Quality.

The publication of this notice opens a period for public comment on the consent decree. Comments should be addressed to the Assistant Attorney General, Environment and Natural Resources Division, and should refer to United States and State of Mississippi, by and through the Mississippi Commission on Environmental Quality v. Cal-Maine Foods, Inc., D.J. Ref. No. 90-5-1-1-10734. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department Web site: http://www.usdoj.gov/enrd/Consent_Decrees.html. We will provide a paper copy of the consent decree upon written request and payment of reproduction costs. Please mail your request and payment to: Consent Decree Library, U.S. DOJ—ENRD, P.O. Box 7611, Washington, DC 20044-7611.

Please enclose a check or money order for $19.25 (25 cents per page reproduction cost) payable to the United States Treasury for a copy of the consent decree with Appendices, or $12.50 (25 cents per page reproduction cost) for a copy of the consent decree without Appendices.

Henry S. Friedman,
Assistant Section Chief, Environmental Enforcement Section, Environment and Natural Resources Division.

[FR Doc. 2015-09382 Filed 4-22-15; 8:45 am]

BILLING CODE 4410-15-P